DEPARTMENT OF THE TREASURY

Submission for OMB Review; Comment Request

March 17, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, N.W., Washington, D.C. 20220.

DATES: Written comments should be received on or before April 24, 2000, to be assured of consideration.

Bureau of Engraving and Printing (BEP)

OMB Number: 1520-0003.

Form Number: BEP 5284.

Type of Review: Extension.

Title: Mutilated Currency Redemption Customer Service Survey.

Description: The Bureau of Engraving and Printing, Office of Currency Standards, conduct surveys to ascertain overall customer satisfaction with procedures employed and services rendered in the redemption of mutilated currency submitted by the public.

Respondents: Individuals or households, business or other for-profit, State, Local or Tribal Government.

Estimated Number of Respondents: 300.

Estimated Burden Hours Per Response: 3 minutes.

Frequency of Response: Annually.

Estimated Total Reporting Burden: 15 hours.

OMB Number: 1520-0004.

Form Number: BEP 1882-1.

Type of Review: Extension.

Title: Survey Card.

Description: The Bureau of Engraving and Printing solicits voluntary comments from the general public regarding displays at numismatic and philatelic shows and events at which it participates to receive feedback on content and quality for future improvement.

Respondents: Individuals or households, business or other for-profit.

Estimated Number of Recordkeepers: 100.

Estimated Burden Hours Per Recordkeeper: Varies.

Frequency of Response: On occasion.

Estimated Total Recordkeeping Burden: 100 hours.

OMB Number: 1520-0005.

Form Number: BEP 1882-2.

Type of Review: Extension.

Title: Public Tour Survey Card.

Description: The Bureau of Engraving and Printing uses the information, suggestions and concerns from the cards to make changes to and adjustments of out free public tour.

Respondents: Individuals or households.

Estimated Number of Respondents: 400.

Estimated Burden Hours Per Response: Varies.

Frequency of Response: On occasion.

Estimated Total Reporting Burden: 4 hours.

Clearance Officer: Pam Corsini, (202) 874-2647, Bureau of Engraving and Printing, Room 3.2.C, Engraving and Printing Annex, 14th and C Streets, SW., Washington, DC 20228.

OMB Reviewer: Alexander T. Hunt, (202) 395-7860, Office of Management and Budget, Room 10202, New Executive Office Building, Washington, DC 20503.

Lois K. Holland,
Departmental Reports Management Officer.

[FR Doc. 00-7220 Filed 3-22-00; 8:45 am]

BILLING CODE 4840-01-U